DEPARTMENT OF COMMERCE

International Trade Administration

Export Trade Certificate of Review

ACTION: Notice of application.

SUMMARY: The Office of Export Trading Company Affairs (“OETCA”), International Trade Administration, Department of Commerce, has received an application for an Export Trade Certificate of Review. This notice summarizes the conduct for which certification is sought and requests comments relevant to whether the Certificate should be issued.

FOR FURTHER INFORMATION CONTACT: Jeffrey C. Anspacher, Director, Office of Export Trading Company Affairs, International Trade Administration, by telephone at (202) 482-5131 (this is not a toll-free number) or by E-mail at oetca@ita.doc.gov.

SUPPLEMENTARY INFORMATION: Title III of the Export Trading Company Act of 1982 (15 U.S.C. 4001-21) (the “Act”) authorizes the Secretary of Commerce to issue Export Trade Certificates of Review. An Export Trade Certificate of Review protects the holder and the members identified in the Certificate from state and federal government antitrust actions and from private, treble damage antitrust actions for the export conduct specified in the Certificate and carried out in compliance with its terms and conditions. Section 302(b)(1) of the Act and 15 CFR 325.6(a) require the Secretary to publish a notice in the Federal Register, identifying the applicant and summarizing its proposed export conduct.

Request for Public Comments

Interested parties may submit written comments relevant to the determination whether a Certificate should be issued. If the comments include any privileged or confidential business information, it must be clearly marked and a nonconfidential version of the comments (identified as such) should be included. Any comments not marked privileged or confidential business information will be deemed to be nonconfidential. An original and five copies, plus two copies of the nonconfidential version, should be submitted no later than 20 days after the date of this notice to: Office of Export Trading Company Affairs, International Trade Administration, Department of Commerce, Room 1104H, Washington, DC 20230. Information submitted by any person is exempt from disclosure under the Freedom of Information Act (5 U.S.C. 552). However, nonconfidential versions of the comments will be made available to the applicant if necessary for determining whether or not to issue the Certificate. Comments should refer to this application as “Export Trade Certificate of Review, application number 03-00005.” A summary of the application follows.

Summary of the Application

Applicant: American Commodity Company, LLC, 18242 Hwy 113, P.O. Box 224, Robbins, CA 95676.

Contact: Martin S. Simon, Consultant.

Telephone: (908) 604-6768.

Application No.: 03-00005.

Date Deemed Submitted: August 28, 2003.

Members (in addition to applicant): None.

American Commodity Company, LLC seeks a Certificate to cover the following specific Export Trade, Export Markets, and Export Trade Activities and Methods of Operation.

Export Trade

1. Products

U.S. rice and rice products (rough rice, brown rice, milled, undermilled or unpolished rice, coated rice, oiled rice, enriched rice, rice bran, rice polish, head rice, broken rice, secondhead rice, brewers rice, screenings, rice flour, and rice hulls).

2. Technology Rights

Technology Rights, including, but not limited to: patents, trademarks, service marks, copyrights, trade secrets and know-how that relate to Products.

3. Export Trade Facilitation Services (As They Relate to the Export of Products and Technology Rights)

Export Trade Facilitation Services, including but not limited to, arranging and coordinating delivery of rice to port of export, arranging for inland and/or ocean transportation, allocating rice to vessel; arranging for storage space at port; arranging for warehousing, stevedoring, wharfage, handling, inspection, fumigation, quality control, financing, freight forwarding, insurance and documentation; reviewing letters of credit; invoicing foreign buyer; collecting payment; and arranging for payment of applicable brokerage fees and commissions.

Export Markets

The Export Markets include all parts of the world except the United States (the fifty states of the United States, the District of Columbia, the Commonwealth of Puerto Rico, the Virgin Islands, American Samoa, Guam, the Commonwealth of the Northern Mariana Islands, and the Trust Territory of the Pacific Islands).

Export Trade Activities and Methods of Operation

With respect to the sale of Products, licensing of Technology Rights, and provisions of Export Trade Facilitation Services, under its proposed Export Trade Certificate of Review, the American Commodity Company, LLC may:

(a) Exchange information with suppliers individually regarding availability of and prices of rice available for sale to export, inventories, production and delivery schedules in order to determine availability of rice for purchase and for export and to coordinate export of U.S. rice;

(b) Solicit offers from suppliers to sell rice to American Commodity Company, LLC for a specific export opportunity;

(c) Obtain agreements from suppliers to offer/sell rice through the certified activities of American Commodity Company, LLC;

(d) Establish prices, quantities and terms for sales of rice in export markets;

(e) Solicit orders from potential foreign distributors and purchasers of U.S. rice for delivery to export markets;

(f) Submit offers to potential distributors and purchasers for sale of U.S. rice for delivery to export markets;

(g) Negotiate and enter into agreements for sale of U.S. rice in export markets;

(h) Enter into agreements to purchase U.S. rice from one or more suppliers to fulfill a specific sales commitment, which may be agreements whereby suppliers agree to sell exclusively to American Commodity Company, LLC for delivery in a particular export market or markets and/or whereby American Commodity Company, LLC agrees to purchase exclusively from particular supplier(s) for resale of U.S. rice in a particular export market or markets;

(i) Enter into agreements with one or more export trade intermediaries or purchasers for their purchases of U.S. rice which may be agreements whereby American Commodity Company, LLC agrees to deal exclusively with a given customer and/or by which that customer agrees to deal exclusively with American Commodity Company, LLC and/or agrees not to purchase from competitors of the American Commodity Company, LLC unless authorized by American Commodity Company, LLC to do so;

(j) Allocate sales of U.S. rice and/or distribute export orders among suppliers on any basis American Commodity Company, LLC deems appropriate;

(k) Act as broker and/or operate as sub-contractor to suppliers and possibly taking title to U.S. rice;

(l) Utilize applicable export assistance and incentive programs which are available to American Commodity Company, LLC within the government and trade sectors;

(m) Provide and/or arrange for the provision of Export Trade Facilitation Services;

(n) Use its discretion, in good faith, to purchase rice or provide information regarding export sales of rice to any suppliers or other entities of its choosing, for any reason the American Commodity Company, LLC deems appropriate;

(o) Use its discretion, in good faith, to sell rice, quote prices for rice, provide information regarding rice, or to market or sell rice to any distributors or purchasers of its choosing in export markets or in any countries or geographic areas in export markets; and

(p) Meet with suppliers or other entities periodically to discuss general matters specific to exporting U.S. rice (not related to price and supply arrangements between applicant and the individual suppliers) such as relevant facts concerning export markets (e.g., demand conditions, transportation costs and prices) or the possibility of joint marketing, selling or bidding arrangements in the export markets.

Definition

“Supplier” means a person who produces, provides or sells a Product.

Dated: September 3, 2003.
Jeffrey C. Anspacher,
Director, Office of Export Trading, Company Affairs.

[FR Doc. 03-22861 Filed 9-8-03; 8:45 am]

BILLING CODE 3510-DR-P